NATIONAL ARCHIVES AND RECORDS ADMINISTRATION

[NARA-2017-006]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by December 14, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Defense, Defense Threat Reduction Agency (DAA-0374-2014-0022, 1 item, 1 temporary item). Records relating to plans and studies regarding responses to weapons accidents.

2. Department of Defense, Office of the Secretary of Defense (DAA-0330-2015-0011, 1 item, 1 temporary item). Master files of an electronic information system used to identify gaps in workforce competency.

3. Department of Defense, Office of the Secretary of Defense (DAA-0330-2016-0017, 1 item, 1 temporary item). Records relating to the issuance of firearms identification cards to retired law enforcement officers.

4. Department of Homeland Security, Immigration and Customs Enforcement (DAA-0567-2015-0016, 5 items, 5 temporary items). Records related to fugitive operations, including operational worksheets, reports, and briefing information.

5. Department of Justice, Executive Office for Immigration Review (DAA-0582-2016-0001, 3 items, 3 temporary items). Records related to pro bono legal representation including provider lists and provider list applicant files.

6. Department of the Navy, Agency-wide (DAA-NU-2015-0010, 11 items, 10 temporary items). Materials management records including routine correspondence, receipts for clothing, and records relating to provisions and rations, electronics repair, daily operations, and related matters. Proposed for permanent retention are records relating to flags and pennants.

7. Department of Transportation, Federal Motor Carrier Safety Administration (DAA-0557-2015-0002, 1 item, 1 temporary item). Master files of an electronic information system relating to audits and field inspections.

8. Department of Transportation, Federal Motor Carrier Safety Administration (DAA-0557-2015-0009, 1 item, 1 temporary item). Master files of an electronic information system relating to vehicle crash data and safety inspections.

9. Department of Transportation, Federal Motor Carrier Safety Administration (DAA-0557-2016-0001, 2 items, 2 temporary items). Master files of an electronic information system relating to employment drug screenings.

10. Department of Transportation, Pipeline and Hazardous Materials Safety Administration (DAA-0571-2014-0004, 3 items, 1 temporary item). Public affairs administrative records. Proposed for permanent retention are Congressional records and press releases.

11. Department of Veterans Affairs, Veterans Health Administration (DAA-0015-2016-0006, 8 items, 8 temporary items). Records are databases tracking patient eligibility for surgical procedures, and analysis of procedural outcomes.

12. National Aeronautics and Space Administration, Agency-wide (DAA-0255-2016-0003, 1 item, 1 temporary item). Safety and Mission Assurance records to include routine audit support documents of NASA installations.

13. National Aeronautics and Space Administration, Agency-wide (DAA-0255-2016-0004, 2 items, 2 temporary items). Employee awards case files and awards tracking database.

14. National Aeronautics and Space Administration, Agency-wide (DAA-0255-2016-0005, 2 items, 2 temporary items). Electronic software usage agreements and duplicate paper copies.

15. National Archives and Records Administration, Office of the Chief Records Officer (DAA-0064-2016-0010, 2 items, 2 temporary items). Records management training records, including course outlines, handouts, reference files, student transcripts, certificates, and test data.

16. National Archives and Records Administration, Office of Human Capital (DAA-0064-2016-0014, 3 items, 3 temporary items). Internal agency training records, including course plans, instructional and presentation materials, manuals, syllabi, textbooks, source material, and videos.

17. National Archives and Records Administration, Office of Inspector General (DAA-0064-2016-0011, 2 items, 2 temporary items). Audit reports and audit resolution case files.

Laurence Brewer,
Chief Records Officer for the U.S. Government.

[FR Doc. 2016-27273 Filed 11-10-16; 8:45 am]

BILLING CODE 7515-01-P